OFFICE OF THE UNITED STATES TRADE REPRESENTATIVE

Determination Regarding Waiver of Discriminatory Purchasing Requirements With Respect to Goods and Services of New Member States of the European Communities (Romania and the Republic of Bulgaria)

AGENCY: Office of the United States Trade Representative.

ACTION: Determination Regarding Waiver of Discriminatory Purchasing Requirements under the Trade Agreements Act of 1979.

DATES: Effective Date: January 1, 2007.

FOR FURTHER INFORMATION CONTACT: Jean Heilman Grier, Senior Procurement Negotiator, Office of the United States Trade Representative, (202) 395-9476.

SUPPLEMENTARY INFORMATION: The European Communities (“EC”) is a party to the World Trade Organization (“WTO”) Agreement on Government Procurement (“GPA”) and has assumed rights and obligations under the GPA on behalf of its Member States. On January 1, 2007, Romania and the Republic of Bulgaria (collectively, the “new Member States”) will accede to the EC. In light of that accession, the EC has committed to assume rights and obligations on behalf of these new Member States under the GPA. On December 8, 2006, the WTO Committee on Government Procurement approved the application of the GPA to Romania and the Republic of Bulgaria. The United States, which is also a party to the GPA, has agreed to waive discriminatory purchasing requirements for eligible products and suppliers of the Romania and the Republic of Bulgaria, beginning on January 1, 2007.

Section 1-201 of Executive Order 12260 of December 31, 1980 delegated the functions of the President under sections 301 and 302 of the Trade Agreements Act of 1979 (“the Trade Agreements Act”) (19 U.S.C. 2511, 2512) to the United States Trade Representative.

Determination: In conformity with sections 301 and 302 of the Trade Agreements Act, and in order to carry out U.S. obligations under the GPA, I hereby determine that:

1. The European Communities, including its new Member States (Romania and the Republic of Bulgaria), is an instrumentality that: (A) Is a party to the GPA; and (B) will provide appropriate reciprocal competitive government procurement opportunities to United States products and services and suppliers of such products and services. In accordance with section 301(b)(1) of the Trade Agreements Act, the European Communities is so designated for purposes of section 301(a) of the Trade Agreements Act.

2. Accordingly, beginning on January 1, 2007, with respect to eligible products (namely, those goods and services covered under the GPA for procurement by the United States) of the Romania and the Republic of Bulgaria and suppliers of such products, the application of any law, regulation, procedure, or practice regarding government procurement that would, if applied to such products and suppliers, result in treatment less favorable than that accorded—

(A) To United States products and suppliers of such products, or

(B) To eligible products of another foreign country or instrumentality which is a party to the GPA and suppliers of such products, shall be waived. This waiver shall be applied by all entities listed in United States Annexes 1 and 3 of GPA Appendix 1.

3. The Trade Representative may modify or withdraw the designation in paragraph 1 and the waiver in paragraph 2.

4. This notice shall not affect the treatment to be accorded to eligible products of any country that was a Member State of the European Communities before January 1, 2007.

Dated: December 19, 2006.
Susan C. Schwab,
United States Trade Representative.

[FR Doc. E6-22173 Filed 12-26-06; 8:45 am]

BILLING CODE 3190-W7-P